DEPARTMENT OF HOMELAND SECURITY

U.S. Citizenship and Immigration Services

[OMB Control Number 1615-0124]

Agency Information Collection Activities: Consideration of Deferred Action for Childhood Arrivals, Form I-821D, OMB Control No. 1615-0124; Correction

ACTION: 60-Day Notice of Proposed Information Collection; Correction.

On December 18, 2013, the Department of Homeland Security, U.S. Citizenship and Immigration Services (USCIS) published a 60-day Notice of Information Collection in the Federal Register at 78 FR 76636, requesting public comments in connection with Consideration of Deferred Action for Childhood Arrivals, Form I-821D in accordance with the Paperwork Reduction Act of 1995.

USCIS inadvertently reported in the “ADDRESSES” section that the Docket ID is “USCIS-2012-0124”. The correct Docket ID is USCIS-2012-0012. The corrected section now reads:

ADDRESSES: All submissions received must include the OMB Control Number 1615-0124 in the subject box, the agency name and Docket ID USCIS-2012-0012. To avoid duplicate submissions, please use only one of the following methods to submit comments:

The remainder of the published Notice is correct as presented and no changes have been made. The comment period as listed in the original Notice publication remains unchanged and closes as posted.

Dated: December 18, 2013.
Samantha Deshommes,
Acting Chief Regulatory Coordinator, Regulatory Coordination Division, Office of Policy and Strategy, U.S. Citizenship and Immigration Services, Department of Homeland Security.

[FR Doc. 2013-30586 Filed 12-23-13; 8:45 am]

BILLING CODE 9111-97-P